ENVIRONMENTAL PROTECTION AGENCY

[OPP-2003-0347; FRL-7324-4]

Diazinon; Product Registrations Cancellation Order

AGENCY: Environmental Protection Agency (EPA).

ACTION: Notice.

SUMMARY: This notice announces EPA's cancellation order for the cancellations, as requested by Drexel Chemical Company and Makhteshim Chemical Works, Limited, for all of their outdoor non-agricultural manufacturing-use products containing diazinon [O,O-diethyl O-(2-ispropyl-6-methyl-4-pyrimidinyl) phosphorthioate], and as requested by Walla Walla Environmental, Incorporated, for its only outdoor non-agricultural end-use product containing diazinon. This order follows up a July 11, 2003 notice of receipt of requests from the three companies for cancellations of the above named product registrations.

In the July 11, 2003 notice, EPA indicated that it would issue an order granting the voluntary product registration cancellations, unless the Agency received substantive comments within the comment period that would merit its further review of these requests. The Agency did not receive any comments specific to these requested cancellations. Accordingly, EPA hereby issues in this notice a cancellation order granting the requested cancellations. Any distribution, sale, or use of the products subject to this cancellation order is only permitted in accordance with the terms of the existing stocks provisions of this cancellation order.

DATES: This cancellation order is effective immediately.

FOR FURTHER INFORMATION CONTACT: Stephanie Plummer, Special Review and Reregistration Division (7508C), Office of Pesticide Programs, Environmental Protection Agency, 1200 Pennsylvania Ave., NW., Washington, DC 20460-0001; telephone number: (703) 305-0076; e-mail address: plummer.stephanie@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0347. The official public docket consists of the documents specifically referenced in this action, any public comments received, and other information related to this action. Although a part of the official docket, the public docket does not include Confidential Business Information (CBI) or other information whose disclosure is restricted by statute. EPA also established two dockets containing documents in support of the diazinon IRED. They are dockets OPP-34225 and OPP-2002-0251. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces cancellation, as requested by Drexel Chemical Company and Makhteshim Chemical Works, Limited of all of their diazinon outdoor non-agricultural manufacturing-use products registered under section 3 of the Federal Insecticide, Fungicide, and Rodenticide Act (FIFRA), and cancellation, as requested by Walla Walla Environmental, Incorporated, of its only diazinon outdoor non-agricultural end-use product. These registrations are listed in ascending sequence by registration number in Table 1 of this unit.

A. Background Information

Diazinon is an organophosphorous insecticide and is one of the most widely used insecticides in the United States. It is used for outdoor non-agricultural, as well as agricultural, pest control.

Under the December 5, 2000, Memorandum of Agreement between the technical registrants of diazinon and EPA, as well as a February 14, 2001 letter, from Drexel Chemical Company, both Makhteshim Chemical Works, Limited and Drexel Chemical Company requested, under FIFRA section 6(f), that EPA cancel, effective as of June 30, 2003, the registrations of all diazinon manufacturing-use products permitting formulation for outdoor non-agricultural use. These requests were contingent upon EPA's granting of certain existing stocks provisions, which are set forth in Unit V. of this notice. In a June 5, 2003 letter, Walla Walla Environmental, Incorporated requested, under FIFRA section 6(f), that EPA cancel the registration of its only diazinon outdoor non-agricultural end-use product. EPA announced its receipt of the above-mentioned cancellation requests in a Federal Register notice dated July 11, 2003 (FRL-7310-2).

Table 1.—Registrations with Pending Requests for Cancellation
Registration number | Product name | Chemical name
11678-62 | Diazol Diazinon Technical Stabilized HG | Diazinon
11678-64 | Diazol Diazinon Stabilized Oil Concentrate HG | Diazinon
19713-524 | Drexel Diazinon Technical HG | Diazinon
47332-4 | CPF-2D Insecticide | Diazinon

Table 2 of this unit includes the names and addresses of records for all registrants of the products in Table 1 of this unit, in ascending sequence by EPA company number:

Table 2.—Registrants Requesting Voluntary Cancellation
EPA company number | Company name and address
11678 | Makhteshim Chemical Works, Limited, 551 Fifth Avenue, Suite 1100, New York, NY 10176
19713 | Drexel Chemical Company, 1700 Channel Avenue, P.O. Box 13327, Memphis, TN 38113
47332 | Walla Walla Environmental, Incorporated, P.O. Box 1298, Walla Walla, WA 99362

III. Cancellation Order

Pursuant to section 6(f) of FIFRA, EPA hereby approves the requested cancellations of diazinon product registrations identified in Table 1 of this notice. Accordingly, the Agency orders that the diazinon product registrations identified in Table 1 are hereby canceled. Any distribution, sale, or use of existing stocks of these products in a manner inconsistent with any of the provisions for disposition of existing stocks set forth below in Unit V. of this notice will be considered a violation of FIFRA.

IV. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

V. Provisions for Disposition of Existing Stocks

Existing stocks are those stocks of registered pesticide products which are currently in the United States and which have been packaged, labeled, and released for shipment prior to the effective date of the cancellation action. The cancellation order issued in this notice includes the following existing stocks provisions:

A. Outdoor Non-Agricultural Manufacturing-Use Products

1. Distribution or sale. The distribution or sale of existing stocks of any outdoor non-agricultural manufacturing-use product referenced in this notice (EPA Reg. No. 11678-62, 11678-64, and 19713-524) is no longer lawful, except for the purposes of export consistent with FIFRA section 17 and proper disposal in accordance with applicable law.

2. Use for producing other products. The use of existing stocks of any manufacturing-use product identified in Table 1 for formulation into any other product labeled for outdoor non-agricultural use is no longer lawful under FIFRA.

The effective date of the cancellation order is intended to be immediate for the outdoor non-agricultural products listed in Table 1 (EPA Reg. No. 11678-62, 11678-64, 19713-524, and 47332-4).

B. Outdoor Non-Agricultural End-Use Products

1. Distribution or sale by registrant. The distribution or sale of existing stocks by Walla Walla Environmental, Incorporated, of the end-use product referenced in this notice (EPA Reg. No. 47332-4) is no longer lawful under FIFRA, except for purposes of shipping such stocks for export consistent with the requirements of FIFRA section 17 or proper disposal in accordance with applicable law.

2. Retail and other distribution or sale. The distribution or sale of existing stocks by persons other than Walla Walla Environmental, Incorporated, will be prohibited after December 31, 2004, except for purposes of product recovery pursuant to the 2000 Memorandum of Agreement, shipping such stocks for export consistent with the requirements of FIFRA section 17, or proper disposal in accordance with applicable law.

3. Use of existing stocks. Use of existing stocks may continue until stocks are exhausted. Any such use must be in accordance with the label.

List of Subjects

Environmental protection, Pesticides and pests.

Dated: September 29, 2003.
Betty Shackleford,
Acting Director, Special Review and Reregistration Division, Office of Pesticide Programs.

[FR Doc. 03-26413 Filed 10-21-03; 8:45 am]

BILLING CODE 6560-50-S